DEPARTMENT OF COMMERCE

National Oceanic and Atmospheric Administration

RIN: 0648-XS94

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of its Ecosystem Scientific and Statistical Committee.

DATES: The Ecosystem and Statistical Committee meeting will begin at 1 p.m. on Monday, December 7, 2009 and conclude by 12 p.m. on Tuesday, December 8, 2009. The meeting will be webcast over the internet. A link to the webcast will be available on the Council's web site, http://www.gulfcouncil.org.

ADDRESSES: The meeting will be held at the Crowne Plaza, 5303 W. Kennedy Blvd., Tampa, FL 33609.

Council address: Gulf of Mexico Fishery Management Council, 2203 North Lois Avenue, Suite 1100, Tampa, FL 33607.

FOR FURTHER INFORMATION CONTACT: Dr. Karen Burns, Ecosystems Management Specialist, Gulf of Mexico Fishery Management Council; telephone: (813) 348-1630.

SUPPLEMENTARY INFORMATION: The Ecosystem and Statistical Committee will begin developing a conceptual framework for advancing an ecosystem approach for fishery management. They will also explore the use of ecological attributes in the Allowable Biological Catch Control Rule. There will also be an evaluation on the efficacy of various models and approaches to determine how recovering red snapper interact with vermilion snapper and groupers and future data and research needs for these models.

Copies of the agendas and other related materials can be obtained by calling (813) 348-1630 or can be downloaded from the Council's ftp site, ftp.gulfcouncil.org.

Although other non-emergency issues not on the agendas may come before the and Statistical Committee for discussion, in accordance with the Magnuson-Stevens Fishery Conservation and Management Act, those issues may not be the subject of formal action during these meetings. Actions of the and Statistical Committee will be restricted to those issues specifically identified in the agendas and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: November 13, 2009.
Tracey L. Thompson,
Acting Director, Office of Sustainable Fisheries, National Marine Fisheries Service.

[FR Doc. E9-27690 Filed 11-17-09; 8:45 am]

BILLING CODE 3510-22-S